DEPARTMENT OF TRANSPORTATION

Federal Aviation Administration

Notice of Availability of the Final Re-Evaluation of the O'Hare Modernization Environmental Impact Statement for the Proposed Interim Fly Quiet (Final Re-Evaluation)

AGENCY: Federal Aviation Administration, DOT.

ACTION: Notice of availability of Final Re-Evaluation.

SUMMARY: The Federal Aviation Administration (FAA) announces that the Final Written Re-Evaluation of the O'Hare Modernization Environmental Impact Statement for the Proposed Interim Fly Quiet (Final Re-Evaluation) for Chicago O'Hare International Airport, Chicago, Illinois is available. The Final Re-Evaluation analyzes and discloses the potential environmental impacts associated with the Proposed Interim Fly Quiet at O'Hare International Airport pursuant to the National Environmental Policy Act.

FOR FURTHER INFORMATION CONTACT: Amy Hanson, Environmental Protection Specialist, Federal Aviation Administration, Chicago Airports District Office, 2300 East Devon Avenue, Des Plaines, IL 60018, Phone: 847-294-7354, FAX: 847-294-7046.

SUPPLEMENTARY INFORMATION: Location of Proposed Action: O'Hare International Airport, Des Plaines and DuPage River Watersheds, Cook and DuPage Counties, Chicago, Illinois (Sections 4, 5, 6, 7, 8, 9, 16, 17, and 18, Township 41 North, Range 10 East, 3rd P.M.).

The Final Re-Evaluation is available on line at (http://www.faa.gov/airports/airport_development/omp/ifq_re_eval/) and at the following libraries in Illinois through August 14, 2019: Addison Public Library, Arlington Heights Library, Bartlett Public Library, Bellwood Public Library, Bensenville Community Public Library, Berkeley Public Library, Bloomingdale Public Library, Carol Stream Public Library, the following Chicago libraries (Albany Park Library, Austin-Irving Library, Bezazian Library, Bucktown/Wicker Park Library, Budlong Woods Library, Conrad Sulzer Regional Library, Dunning Library, Edgebrook Library, Edgewater Library, Galewood/Mont Clare Library, Harold Washington Library, Humboldt Park Library, Independence Library, Jefferson Park Library, Lincoln/Belmont Library, Lincoln Park Library, Logan Square Library, Mayfair Library, Merlo Library, North Austin Library, North Pulaski Library, Northtown Library, Oriole Park Library, Portage-Cragin Library, Roden Library, Rogers Park Library, Uptown Library, West Belmont Library), College of DuPage Library, Des Plaines Library, Downers Grove Library, Elk Grove Village Public Library, Elmhurst Public Library, Elmwood Park Public Library, Evanston Public Library, Forest Park Public Library, Franklin Park Public Library, Glen Ellyn Public Library, Glencoe Public Library, Glenside Public Library in Glendale Heights, Glenview Public Library, Hanover Park Branch Library, Eisenhower Public Library in Harwood Heights, Hillside Public Library, Hoffman Estates Library, Itasca Community Library, Lisle Library District, Helen Plum Library in Lombard, Maywood Public Library, Melrose Park Public Library, Morton Grove Public Library, Mount Prospect Public Library, Niles Public Library, Northbrook Public Library, Northlake Public Library, Oak Brook Public Library, Oak Park Public Library, Oakton Community College Library, Park Ridge Public Library, Prospect Heights Public Library, River Forest Public Library, River Grove Public Library, Rolling Meadows Library, Roselle Public Library, Schaumburg Township District Library, Schiller Park Public Library, Skokie Public Library, St. Charles Public Library, Villa Park Public Library, West Chicago Public Library, Wheaton Public Library, Wilmette Public Library, Winnetka-Northfield Library, Winnetka-Northfield Library—Northfield Branch, and Wood Dale Public Library.

Issued in Des Plaines, IL, June 21, 2019.
Deb Bartell,
Manager, Chicago Airports District Office.

[FR Doc. 2019-14827 Filed 7-12-19; 8:45 am]

BILLING CODE 4910-13-P